DEPARTMENT OF HOMELAND SECURITY

Office of the Secretary

[Docket No. DHS-2008-0108]

Privacy Act of 1974; United States Coast Guard—014 Military Pay and Personnel System of Records

AGENCY: Privacy Office; DHS.

ACTION: Notice of Privacy Act system of records.

SUMMARY: In accordance with the Privacy Act of 1974, and as part of the Department of Homeland Security's ongoing effort to review and update legacy system of record notices, the Department of Homeland Security giving notice that it proposes to add a system of records to its inventory of record systems titled United States Coast Guard Military Pay and Personnel. This system is a compilation of nine legacy record systems: DOT/CG 534 Travel and Transportation of Household Effects (April 11, 2000); DOT/CG 537 FHA Mortgage Insurance for Servicemen in lieu of VHA Mortgage Insurance for Servicemen; DOT/CG 573 United States Public Health Services, Commissioned Officer Corps Staffing and Recruitment Files (April 11, 2000); DOT/CG 622 Military Training and Education Records (April 11, 2000); DOT/CG 623 Military Pay and Personnel System (April 11, 2000); DOT/CG 625 Officer Selection and Appointment System (April 11, 2000); DOT/CG 626 Official Officer Service Records (April 11, 2000); DOT/CG 629 Enlisted Personnel Record System (April 11, 2000); DOT/CG 630 Coast Guard Family Housing (April 11, 2000); and DOT/CG 640 Outside Employment of Active Duty Coast Guard Personnel (April 11, 2000). This record system will allow the Department of Homeland Security/United States Coast Guard to collect and maintain records regarding military pay and personnel. Categories of individuals, categories of records, and routine uses of these legacy system of records notices have been consolidated and updated to better reflect the United States Coast Guard's military service personnel record systems. This new system will be included in the Department of Homeland Security's inventory of record systems.

DATES: Written comments must be submitted on or before January 20, 2009. This new system will be effective January 20, 2009.

ADDRESSES: You may submit comments, identified by docket number DHS-2008-0108 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket, to read background documents, or comments received, go to http://www.regulations.gov.

FOR FURTHER INFORMATION CONTACT: For general questions please contact: David Roberts (202-475-3521), Privacy Officer, United States Coast Guard. For privacy issues please contact: Hugo Teufel III (703-235-0780), Chief Privacy Officer, Privacy Office, U.S. Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS)/United States Coast Guard (USCG) have relied on preexisting Privacy Act systems of records notices for the collection and maintenance of records that concern active duty, reserve, and retired active duty and retired reserve, as well as eligible dependent's military pay and personnel processing.

As part of its efforts to streamline and consolidate its record systems, DHS is updating and reissuing a USCG system of records under the Privacy Act (5 U.S.C. 552a) that deals with active duty, reserve, retired active duty, and retired reserve, as well as eligible dependent's military pay and personnel processing. This record system will allow DHS/USCG to collect and maintain records regarding military pay. The collection and maintenance of this information will assist DHS/USCG in meeting its obligation pay active duty, reserve, retired active duty, and retired reserve military personnel, as well as eligible dependents for their service.

In accordance with the Privacy Act of 1974, and as part of the DHS Privacy Office's ongoing effort to review and update legacy system of record notices DHS is giving notice that it proposes to add a system of records to its inventory of record systems titled United States Coast Guard Military Pay and Personnel. This system is a compilation of nine legacy record systems: DOT/CG 534 Travel and Transportation of Household Effects (65 FR 19476 April 11, 2000); DOT/CG 537 FHA Mortgage Insurance for Servicemen in lieu of VHA Mortgage Insurance for Servicemen (65 FR 19476 April 11, 2000); DOT/CG 573 United States Public Health Services, Commissioned Officer Corps Staffing and Recruitment Files (65 FR 19476 April 11, 2000); DOT/CG 622 Military Training and Education Records (65 FR 19476 April 11, 2000); DOT/CG 623 Military Pay and Personnel System (65 FR 19475 April 11, 2000); DOT/CG 625 Officer Selection and Appointment System (65 FR 19476 April 11, 2000); DOT/CG 626 Official Officer Service Records (65 FR 19476 April 11, 2000); DOT/CG 629 Enlisted Personnel Record System (65 FR 19476 April 11, 2000); DOT/CG 630 Coast Guard Family Housing (65 FR 19476 April 11, 2000); and DOT/CG 640 Outside Employment of Active Duty Coast Guard Personnel (65 FR 19476 April 11, 2000). This record system will allow the DHS/USCG to collect and maintain records regarding military pay and personnel. Categories of individuals, categories of records, and routine uses of these legacy system of records notices have been consolidated and updated to better reflect the USCG's military service personnel record systems. This new system will be included in DHS's inventory of record systems.

II. Privacy Act

The Privacy Act embodies fair information principles in a statutory framework governing the means by which the United States Government collects, maintains, uses, and disseminates individuals' information. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the use of their records, and to assist individuals to more easily find such files within the agency. Below is the description of the Military Pay and Personnel System of Records.

III. Health Insurance Portability and Accountability Act

This system of records contains individually identifiable health information. The Health Insurance Portability and Accountability Act of 1996, applies to most of such health information. Department of Defense 6025.18-R may place additional procedural requirements on the uses and disclosures of such information beyond those found in the Privacy Act of 1974 or mentioned in this system of records notice.

In accordance with 5 U.S.C. 552a(r), DHS has provided a report of this new system of records to the Office of Management and Budget and to Congress.

System of Records

DHS/USCG-014.

System name:

United States Coast Guard Military Pay and Personnel System.

Security classification:

Unclassified.

System location:

Records are maintained at the United States Coast Guard Headquarters in Washington, DC and field offices.

Categories of individuals covered by the system:

Categories of individuals covered by this system include active duty, reserve, and retired active duty and retired reserve USCG military personnel and their annuitants and dependents. Also included are active duty and retired National Oceanic and Atmospheric Administration (NOAA) Officers and their annuitants and dependents, as well as Officers of the Commissioned Corps of the United States Public Heath Service (PHS) and their annuitants and dependents.

Categories of records in the system:

Categories of records in this system include:

• Individual's name;

• Social security number;

• Employee identification number;

• Date and place of birth;

• Gender;

• Minority designation and nationality;

• Marital status;

• Limited medical related information to include dates of physical examinations, color blindness, immunizations, weight and body mass index (and compliance to standards);

• Addresses;

• Total current monetary earnings, including overtime, computed to the nearest dollar;

• Number of hours worked;

• Leave accrual rate;

• Leave requests and balances;

• Health and life insurance requests;

• Payroll deduction requests;

• Information for the purpose of validating legal requirements for garnishment of wages;

• Salary rate;

• Cash awards;

• Retirement withholdings;

• Background information to include work experience;

• Education records, including: Highest level achieved; specialized education or training obtained in and outside of military service; non-traditional education support records; achievement and aptitude test results; academic performance records; correspondence course rate advancement records; military performance records; admissions processing records; grade reporting records; academic status records; transcript maintenance records;

• Military duty assignments;

• Ranks held;

• Allowances;

• Personnel actions such as promotions, demotions, or separations;

• Record of instances of Uniform Code of Military Justice infractions;

• Performance evaluations;

• Individual's desires for future assignments, training requested, and notations by assignment officers;

• Information for determinations of waivers and remissions of indebtedness to the United States Government;

• Travel claims, transportation claims, government bills of lading, and applications for shipment of household effects;

• USCG Housing System Records, including: Housing surveys, computer data summaries, correspondence from the individual seeking housing; and

• Names, dates of birth, addresses, social security numbers, and gender of annuitants and dependents of active duty, reserve, and retired active duty and reserve military members.

Authority for maintenance of the system:

5 U.S.C. 301; The Federal Records Act, 44 U.S.C. 3101; 5 U.S.C. 5501-5597; 10 U.S.C. 1043, 1147; 14 U.S.C. 92(I) 92(r), 93(g), 475, 512, 620, 632, 645, 681, 687; 37 U.S.C. 406; 42 U.S.C. 213, 253; 49 CFR 1.45, 1.46.

Purpose(s):

The purpose of this system is to administer the USCG active duty, reserve, and retired active duty and retired reserve military pay and personnel system. Additionally, the system is used to provide necessary information to Department of Commerce for NOAA Officers and to Health and Human Services Officers for the Commissioned Corps of the United States Public Heath Service (PHS) to administer their respective pay and personnel system.

Routine uses of records maintained in the system, including categories of users and the purposes of such uses:

Note: This system of records contains individually identifiable health information. The Health Insurance Portability and Accountability Act of 1996, applies to most of such health information. Department of Defense 6025.18-R may place additional procedural requirements on the uses and disclosures of such information beyond those found in the Privacy Act of 1974 or mentioned in this system of records notice. Therefore, routine uses outlined below may not apply to such health information.

In addition to those disclosures generally permitted under 5 U.S.C. 552a(b) of the Privacy Act, all or a portion of the records of information contained in this system may be disclosed outside DHS as a routine use pursuant to 5 U.S.C. 552a(b)(3) as follows:

A. To the Department of Justice (including United States Attorney Offices) or other Federal agency conducting litigation or in proceedings before any court, adjudicative or administrative body when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To the Department of Treasury for the purpose of disbursement of salary, United States Savings Bonds, allotments, or travel claim payments.

I. To Department of Commerce and Health and Human Services to administer their respective pay and personnel systems for NOAA Officers and the Commissioned Corps of the PHS, respectively.

J. To Federal, State, and local government agencies to disclose earnings and tax information, including the Internal Revenue Service and the Social Security Administration.

K. To the Department of Defense and Veterans Administration for determinations of benefit eligibility for military members and their dependents.

L. To the Department of Defense for manpower and readiness planning.

M. To the Comptroller General for the purpose of processing waivers and remissions.

N. To an individual's spouse, or person responsible for the care of the individual concerned when the individual to whom the record pertains is mentally incompetent, critically ill, or under other legal disability for the purpose of assuring the individuals is receiving benefits or compensation they are entitled to receive.

O. To a requesting government agency, organization, or individual the home address and other relevant information on those individuals who, it is reasonably believed, might have contracted an illness, been exposed to, or suffered from a health hazard while a member of government service.

P. To other government agencies for the purpose of earnings garnishment.

Q. To the Department of Defense for the purpose of preparing the Officer Register and Reserve Office Register, which is provided to all Coast Guard officers.

R. To education institutions or training facilities for purposes of enrollment and verification of employee attendance and performance.

Disclosure to consumer reporting agencies:

None.

Policies and practices for storing, retrieving, accessing, retaining, and disposing of records in the system:

Storage:

Records in this system are stored electronically or on paper in secure facilities in a locked drawer behind a locked door. The records are stored on magnetic disc, tape, digital media, CD-ROM, and DVD.

Retrievability:

Records may be retrieved by name, social security number, or employee identification number.

Safeguards:

Records in this system are safeguarded in accordance with applicable rules and policies, including all applicable DHS automated systems security and access policies. A defense in depth strategy has been employed. Overlapping and complimentary management, operational and technical security controls have been implemented and followed to minimize the risk of compromising the confidentiality or adversely impacting the integrity of the information that is being stored, processed, and/or transmitted. Access to the computer system containing the records in this system is limited to those individuals who have a need to know the information for the performance of their official duties and who have appropriate clearances or permissions.

Retention and disposal:

Travel and Transportation of Household Effects records are temporary and are destroyed six years after the period of the account. (AUTH GRS 9, Item 1).

U.S. Public Health Services (USPHS) Commissioned Officer Corps Staffing and Recruiting records are temporary and are transferred to Commission Personnel Operation Division upon completion of Coast Guard assignment. (AUTH NC1-26-76-2), item 359, and (NC1-26-80-4), item 151.

Military Training and Education, records are temporary, including training courses and related material, school and training files containing correspondence, reports and related paper on Coast Guard and Navy schools and trainee index cards. These records are destroyed when five years old. (AUTH NC1-26-76-2), items 559 and 561 and (NC1-26-80-4), item 338b.

Class folders containing personal and service history, muster card files, and recruit training record cards are destroyed when one year old (AUTH NC1-26-80-4), items 338b, 338c, 338d and 338e.

Military Pay and Personnel System records are temporary, and transferred to FRC 6 months after period of account, and destroyed 56 years after period covered by account (AUTH NC1-26-76-2), items 227a and 99d.

Officer Selection and Appointment System, records are temporary. Officer Candidates and Direct Commission Program application for selected applicants and filed in Official Personnel Folder (AUTH NC1-26-76-2), items 583a and 584a.

Non-selected Officer Candidate applicants are destroyed six months after deadline dates for class which application is made (NC1-26-76-2), item 583b.

For Non-selected Direct Commission Program applicants records are destroyed one year from date of board by which considered (NC1-26-79-2), item 584b.

For OCS and Direct Commission applicant files containing copies of applications for appointment in the Coast Guard Reserve, interviews, reports, and medical examination are destroyed when one year old (AUTH NC1-26-80-4 item 337b).

Official Officer Service Records are permanent and transferred records to the National Personnel Records Center (NPRC), St. Louis, MO, six months after separation or retirement. Transfer to NARA 62 years after date (AUTH: N1-330-04-1, Item 1).

Enlisted Personnel Records System records are permanent and transferred records to the National Personnel Records Center (NPRC), St. Louis, MO, six months after separation or retirement. Transfer to NARA 62 years after date (AUTH: N1-330-04-1, Item 1).

Records concerning housing are kept until the applicant is placed in housing. Coast Guard Family Housing records are temporary and destroyed when two years old (AUTH: GRS 15, items 1, 3, and 5a).

Outside Employment of Active Duty Coast Guard Personnel records are temporary and destroyed when three years old or when superseded ore obsolete, whichever is later (AUTH GRS 25), items, 1 and 9.

Leave and earnings statements and pay records are microfilmed and retained onsite for four years, then archived at the Federal Record Center, and destroyed when 50 years old.

Duplicate magnetic copies of the pay and personnel record are retained at an off site facility for a useful life of seven years.

Education records are kept for five years. Paper records for waivers and remissions are retained on site six years three months after the determination and then destroyed.

Paper records to determine legal sufficiency for garnishment are retained on site six years three months after the member separates from the service or the garnishment is terminated, and then destroyed.

Travel and transportation of household effects records are kept for three years, and then transferred to a Federal Records Center.

Records concerning congressional correspondence are maintained indefinitely because they were determined to be of historical value.

System Manager and address:

For active duty military personnel of the USCG: Chief, Office of Personnel, USCG Headquarters, 2100 2nd Street, SW., Washington, DC 20593-0001. For USCG reserve military personnel and retired USCG reserve military personnel waiting pay at age 60: Chief, Office of Reserve Affairs, USCG Headquarters, 2100 2nd Street, SW., Washington, DC 20593-0001. For USCG waivers and remissions: Chief, Personnel Services Division, Office of Military Personnel, USCG Headquarters, 2100 2nd Street, SW., Washington, DC 20593-0001. For records used to determine legal sufficiency for garnishment of wages and pay records: Commanding Officer, USCG, Personnel Services Center, 444 SE Quincy Street, Topeka, KS 66683-3591. For data added to the decentralized data segment the commanding officer, officer-in-charge of the unit handling the military personnel's pay and personnel record, or Chief, Administrative Services Division for individuals whose records are handled by USCG Headquarters 2100 2nd Street, SW., Washington, DC 20593-0001.

For NOAA members: National Oceanic and Atmospheric Administration, Commissioned Personnel Division, 11400 Rockville Pike, Rockville, MD 20852.

For Officers of the Commissioned Corps, United States Public Health Service Office of Commissioned Corps Operations, 1100 Wootton Parkway, Suite 100, Rockville MD 20852.

Notification procedure:

Individuals seeking notification of and access to any record contained in this system of records, or seeking to contest its content, may submit a request in writing to: For active duty military personnel of the USCG: Chief, Office of Personnel, USCG Headquarters, 2100 2nd Street, SW., Washington, DC 20593-0001. For USCG reserve military personnel and retired USCG reserve military personnel waiting pay at age 60: Chief, Office of Reserve Affairs, USCG Headquarters, 2100 2nd Street, SW., Washington, DC 20593-0001. For USCG waivers and remissions: Chief, Personnel Services Division, Office of Military Personnel, USCG Headquarters, 2100 2nd Street, SW., Washington, DC 20593-0001. For records used to determine legal sufficiency for garnishment of wages and pay records: Commanding Officer, USCG, Personnel Services Center, 444 SE Quincy Street, Topeka, KS 66683-3591. For data added to the decentralized data segment the commanding officer, officer-in-charge of the unit handling the individual's pay and personnel record, or Chief, Administrative Services Division for individuals whose records are handled by USCG Headquarters 2100 2nd Street, SW., Washington, DC 20593-0001.

For NOAA members: National Oceanic and Atmospheric Administration, Commissioned Personnel Division, 11400 Rockville Pike, Rockville, MD 20852.

For Officers of the Commissioned Corps, United States Public Health Service Office of Commissioned Corps Operations, 1100 Wootton Parkway, Suite 100, Rockville, MD 20852.

When seeking records about yourself from this system of records or any other USCG system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information the USCG may not be able to conduct an effective search, and your request may be denied due to lack of specificity or lack of compliance with applicable regulations.

Record access procedures:

See “Notification procedure” above.

Contesting record procedures:

See “Notification procedure” above.

Record source categories:

Individuals, USCG personnel officials, National Oceanic and Atmospheric Administration personnel officials, the Department of Defense, Commissioned Corp of Public Health Service personnel officials, previous employers, educational institutions, court records, and test results.

Exemptions claimed for the system:

None.

Dated: December 10, 2008.
Hugo Teufel III,
Chief Privacy Officer, Department of Homeland Security.

[FR Doc. E8-29793 Filed 12-18-08; 8:45 am]

BILLING CODE 4410-10-P